DEPARTMENT OF DEFENSE

Office of the Secretary

Renewal of Department of Defense Federal Advisory Committee

AGENCY: Department of Defense.

ACTION: Renewal of Federal Advisory Committee.

SUMMARY: Under the provisions of the Federal Advisory Committee Act of 1972, (5 U.S.C. Appendix), the Government in the Sunshine Act of 1976 (5 U.S.C. 552b), and 41 CFR 102-3.50, the Department of Defense (DoD) gives notice that it is renewing the charter for the Department of Defense Audit Advisory Committee (hereafter referred to as the “Committee”).

The Committee is a discretionary federal advisory committee that shall provide the Secretary of Defense, through the Under Secretary of Defense (Comptroller)/Chief Financial Officer, independent advice and recommendations on DoD financial management, to include financial reporting processes, systems of internal controls, audit processes, and processes for monitoring compliance with relevant laws and regulations.

The Under Secretary of Defense (Comptroller)/Chief Financial Officer may act upon the Committee's advice and recommendations.

The Committee shall be comprised of no more than seven members, who are distinguished members of the audit, accounting and financial communities. No Committee members shall be a full-time or part-time DoD employee.

Committee members are appointed to provide advice on behalf of the government on the basis of their best judgment without representing any particular point of view and in a manner that is free from conflict of interest. The Secretary of Defense shall renew their appointments on an annual basis.

With the exception of travel and per diem for official travel, Committee members shall serve without compensation.

Committee members shall not be allowed to serve on the Committee for more than three consecutive terms.

The Under Secretary of Defense (Comptroller)/Chief Financial Officer shall select the Committee's Chairperson from the membership at large.

With DoD approval, the Committee is authorized to establish subcommittees, as necessary and consistent with its mission. These subcommittees shall operate under the provisions of the Federal Advisory Committee Act of 1972, the Government in the Sunshine Act of 1976 (5 U.S.C. 552b), and other governing Federal regulations.

Such subcommittees shall not work independently of the chartered Committee, and shall report all their recommendations and advice to the Committee for full deliberation and discussion. Subcommittees have no authority to make decisions on behalf of the chartered Committee; nor can they report directly to the Department of Defense or any Federal officers or employees who are not Committee members.

Subcommittee members, who are not Committee members, shall be appointed in the same manner as the Committee members. Such individuals, if not full-time or part-time government employees, shall be appointed to serve as experts and consultants under the authority of 5 U.S.C. 3109, and serve as special government employees, whose appointments must be renewed on an annual basis. With the exception of travel, subcommittee members shall serve without compensation.

FOR FURTHER INFORMATION CONTACT: Jim Freeman, Deputy Advisory Committee Management Officer for the Department of Defense, 703-601-6128.

SUPPLEMENTARY INFORMATION: The Committee shall meet at the call of the Designated Federal Officer, in consultation with the Committee's Chairperson and the estimated number of Committee meetings is four per year.

The Designated Federal Officer, pursuant to DoD policy, shall be a full-time or permanent part-time DoD employee, and shall be appointed in accordance with governing DoD policies and procedures. In addition, the Designated Federal Officer is required to be in attendance at all Committee and subcommittee meetings for the entire duration of each and every meeting. However, in the absence of the Designated Federal Officer, the Alternate Designated Federal Officer shall attend the entire duration of the Committee or subcommittee meeting. The Designated Federal Officer shall, in coordination with the Chairperson approve all meeting agendas and adjourn any meeting when the Designated Federal Officer determines adjournment to be in the public interest.

Pursuant to 41 CFR 102-3.105(j) and 102-3.140, the public or interested organizations may submit written statements to the Department of Defense Audit Advisory Committee's membership about the Committee's mission and functions. Written statements may be submitted at any time or in response to the stated agenda of planned meeting of Department of Defense Audit Advisory Committee.

All written statements shall be submitted to the Designated Federal Officer for the Department of Defense Audit Advisory Committee, and this individual will ensure that the written statements are provided to the membership for their consideration. Contact information for the Department of Defense Audit Advisory Committee Designated Federal Officer can be obtained from the GSA's FACA Database— https://www.fido.gov/facadatabase/public.asp.

The Designated Federal Officer, pursuant to 41 CFR 102-3.150, will announce planned meetings of the Department of Defense Audit Advisory Committee. The Designated Federal Officer, at that time, may provide additional guidance on the submission of written statements that are in response to the stated agenda for the planned meeting in question.

Dated: July 15, 2011.
Aaron Siegel,
Alternate OSD Federal Register Liaison Officer, Department of Defense.

[FR Doc. 2011-18402 Filed 7-20-11; 8:45 am]

BILLING CODE 5001-06-P